DEPARTMENT OF AGRICULTURE

Submission for OMB Review; Comment Request

July 15, 2020.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 19, 2020 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Guaranteed Farm Loans.

OMB Control Number: 0560-0155.

Summary of Collection: The Consolidated Farm and Rural Development Act (CONACT), as amended, authorize the Secretary of Agriculture to make and service loans guaranteed by the Farm Service Agency (FSA) to eligible farmers and ranchers. The statutory authority for the guaranteed loan program is set out in the Code of Federal Regulations (CFR), title 7, chapter VII, part 762. The loans made and serviced under 7 CFR part 762 include farm operating, farm ownership loans. FSA also provides guarantees of loans made by private sellers of a farm or ranch on a land contract sales basis. The reporting requirements imposed on the public by the regulations at 7 CFR part 762 and 7 CFR part 763 are necessary to administer the Farm Loan Program guaranteed loan program in accordance with statutory requirements of the CONACT as specified in the 2008 Farm Bill.

Need and Use of the Information: FSA uses the forms and written evidence to collect needed information. The basis objective of the guaranteed loan program is to provide credit to applicants who are unable to obtain credit from lending institutions without a guarantee. The information collected is used to determine lender and loan applicant eligibility for farm loan guarantees, and to ensure the lender protects the government's financial interest. The information FSA collects is needed to effectively administer the FSA guaranteed farm loan programs. The information is collected by the FSA loan official in consultation with participating lenders.

Description of Respondents: Farms; Business or other for-profit.

Number of Respondents: 14,357.

Frequency of Responses: Reporting: Other (when applying for loans).

Total Burden Hours: 165,724.

Farm Service Agency

Title: 7 CFR 765, Direct Loan Servicing—Regular.

OMB Control Number: 0560-0236.

Summary of Collection: Authority to establish the regulatory requirements contained in 7 CFR part 765 is provided under 5 U.S.C. 301, which provides that “The Head of an Executive department or military department may prescribe regulations for the government of his department, the distribution and performance of its business . . .” The Secretary delegated authority to administer the provisions of the applicable to the Farm Loan Program (FLP) to the Under Secretary for Farm and Foreign Agricultural Service in § 2.16 of 7 CFR part 2. FLP provides loans to family farmers to purchase real estate equipment and finance agricultural production. The regulations covered by this information collection request describes, the policies and procedures FLP uses to service most FLP loans to ensure borrowers are meeting the requirements of their loan agreements.

Need and Use of the Information: Information requested under this collection is submitted by borrowers to the local agency office serving the county in which their business is headquartered. The information is used by FLP to manage application of proceeds from the sale of agency security, consider whether a borrower is in compliance with their loan covenants, assist the borrower in achieving their business goals, conduct day-to-day management of the agency's loan portfolio, and ensure that the agency's interests are protected. Failure to collect the information or collecting it less frequently could result in the failure of the farm operation or loss of agency security property or position.

Description of Respondents: Business or other for-profit; farms.

Number of Respondents: 94,121.

Frequency of Responses: Reporting: On occasion; annually.

Total Burden Hours: 30,315.

Farm Service Agency

Title: Farm Loan Program, General Program Administration.

OMB Control Number: 0560-0238.

Summary of Collection: Authority to establish the regulatory requirements contained in 7 CFR part 761 and 7 CFR part 763, is derived from 5 U.S.C. 301 which provides that “The Head of an Executive department or military department may prescribe regulations for the government of his department, the distribution and performance of its business . . .” The Secretary delegated authority to administer the provisions of the Act applicable to the Farm Loan Program (FLP) to the Under Secretary for Farm and Foreign Agricultural Service in § 2.16 of 7 CFR part 2. FLP provides loans to family farmers to purchase real estate equipment and finance agricultural production. The regulations covered by this information collection package describes, the policies and procedures the agency uses to provide supervised credit to direct FLP applicants and borrowers in accordance with the provisions of the Consolidated Farm and Rural Development Act (Pub. L. 87-128), as amended.

Need and Use of the Information: Information collections are submitted by applicants and borrowers to the local FSA office serving the county in which their business is headquartered. The information is necessary to provide supervised credit as legislatively mandated and is used by Agency Officials to: (1) Ensure that when loan funds or insurance proceeds are used for construction and development, projects, work is completed according to applicable state and local requirements, and in a manner that protects the Agency's financial interest. (2) Ensure that the loan repayment plan is developed using realistic data, based on the actual history of the operation and any planned improvements. (3) Identify potential concerns limiting the success of the operation and develop a loan assessment outlining the course of action to be followed, to improve the operation so that commercial credit is available.

The agency is mandated to provide supervised credit; therefore, failure to collect the information, or collecting it less frequently, could result in the failure of the farm operation or loss of agency security property.

Description of Respondents: Business or other for-profit; Farms.

Number of Respondents: 64,802.

Frequency of Responses: Reporting: On occasion; Annually.

Total Burden Hours: 168,029.

Ruth Brown,
Departmental Information Collection Clearance Officer.

[FR Doc. 2020-15626 Filed 7-17-20; 8:45 am]

BILLING CODE 3410-05-P